DEPARTMENT OF THE INTERIOR

National Park Service

Selma to Montgomery National Historic Trail Advisory Council; Notice of Meeting

Notice is hereby given in accordance with the Federal Advisory Committee Act, Public Law 92-463, that a meeting of the Selma to Montgomery National Historic Trail Advisory Council will be held May 24, 2000 at 9:30 am, at the town hall in Whitehall, Alabama.

The Selma to Montgomery National Historic Trail Advisory Council was established pursuant to Public Law 100-192 establishing the Selma to Montgomery National Historic Trail. This law was put in place to advise the National Park Service on such issues as preservation of trail routes and features, public use, standards for posting and maintaining trail markers, and administrative matters.

The matters to be discussed include:

A. Update on status of Cultural Resource Inventory.

B. Update of High priority projects.

C. Further define high priority projects as input to ALDOT application for FY 2001 Scenic Byways funds. The application is due June 2000.

D. Update on Welcome Center at the Tent City Site.

The meeting will be open to the public. However, facilities and space for accommodating members of the public are limited and persons will be accommodated on first come, first serve basis. Any member of the public may file a written statement concerning the matters to be discussed with Lee Edwards, Trail Superintendent.

Person wishing further information concerning this meeting, or who wish to submit written statements may contact Lee Edwards, Trail Superintendent, Selma to Montgomery National Historic Trail, P.O. Box 5690, Montgomery, AL 36103, telephone 334-353-3744 or 334-727-6390.

Lee Edwards,
Trail Superintendent.

[FR Doc. 00-10587 Filed 4-27-00; 8:45 am]

BILLING CODE 4310-70-U